NATIONAL ARCHIVES AND RECORDS ADMINISTRATION

[FDMS Docket NARA-19-0007; NARA-2019-028]

Changes to Agency Records Schedule; Request for Comments

AGENCY: National Archives and Records Administration (NARA).

ACTION: Notice of consolidated reply to comments on records schedule DAA-0567-2015-0013 (DHS-ICE-Detainee Records), and request for comments.

SUMMARY: We are publishing a consolidated reply to public comments submitted on a previously open proposed records schedule. On July 14, 2017, NARA published notice in the Federal Register of proposed records schedule DAA-0567-2015-0013. The Department of Homeland Security, Immigration and Customs Enforcement (ICE), Detainee Records submitted this proposed schedule for “records related to detainees, including incidents of sexual abuse and assault, escapes, deaths while in agency custody, telephone rates charged to detainees, alternatives to detention, logs and reports on status of detainees and detention facilities, and location and segregation of detainees.” We received comments on this records schedule and are providing a consolidated reply on those comments on regulations.gov at docket NARA-19-0007. We are also inviting public comment on the reply.

DATES: Submit any comments in writing no later than August 5, 2019. We will not consider late comments.

ADDRESSES: You can find and read the consolidated reply on regulations.gov under docket number NARA-19-0007. You may submit comments by either of the following methods:

Federal eRulemaking Portal: http://www.regulations.gov, docket number NARA-19-0007.

Mail: Records Appraisal and Agency Assistance (ACR); National Archives and Records Administration; 8601 Adelphi Road, College Park, MD 20740-6001. You must cite the control number DAA-0567-2015-0013 in your comment.

FOR FURTHER INFORMATION CONTACT: Records Management Operations by email at request.schedule@nara.gov, by mail at the address above, or by phone at 301.837.1799. For information on this notice, contact Kimberly Keravuori by email at regulation_comments@nara.gov.

SUPPLEMENTARY INFORMATION: We have revised this proposed records schedule based on public comments and discussions with the agency proposing the schedule. We are now inviting follow-on public comments on the appropriateness of the disposition instructions and retention periods for the items that remain on the revised schedule.

Your written comments on this proposed records schedule should be specific, should be confined to issues pertinent to the records schedule, and should explain your reason(s) for any change you recommend to the schedule. Where possible, you should reference the specific item you are addressing. We will accept only comments submitted through www.regulations.gov or mail and will not consider comments filed after the deadline.

We will post another consolidated reply to all comments we receive during this comment period, which will be posted to the same docket on regulations.gov.

We will post comments, including any personal information and attachments, to the public docket unchanged. Because comments are public, you are responsible for ensuring that you do not include any confidential or other information that you or a third party may not wish to be publicly posted. We will consider all comments submitted by the posted deadline and consult as needed with the Federal agency seeking the disposition authority. After considering comments, we will post on regulations.gov a second consolidated reply, summarizing the comments, responding to them, and noting any changes we have made to the proposed records schedule. We will then send the schedule for final approval by the Archivist of the United States.

You may elect at regulations.gov to receive updates on the docket, including an alert when we post the second consolidated reply, whether or not you submit a comment. You may request additional information about the disposition process through the contact information listed above.

NARA does not control access to records in the legal custody of ICE or any other agency. The Freedom of Information Act (FOIA) and agency policy govern the right to access information in these executive branch agency records.

Laurence Brewer,
Chief Records Officer for the U.S. Government.

[FR Doc. 2019-13085 Filed 6-20-19; 8:45 am]

BILLING CODE 7515-01-P